DEPARTMENT OF AGRICULTURE

Rural Business-Cooperative Service

Notice of Funding Availability (NOFA) for Renewable Energy Feasibility Studies Grants Under the Rural Energy for America Program

AGENCY: Rural Business-Cooperative Service, USDA.

ACTION: Notice.

SUMMARY: The Rural Energy for America Program, formerly section 9006 under the 2002 Farm Bill, is composed of several types of grants and guaranteed loan programs. These are: Guaranteed loans and grants for the development/construction of renewable energy systems and for energy efficiency improvement projects; grants for conducting energy audits; grants for conducting renewable energy development assistance; and grants for conducting renewable energy feasibility studies.

The Agency is implementing the Rural Energy for America Program (REAP) for Fiscal Year 2010 through the publication of three REAP notices:

• Renewable energy system and energy efficiency improvement grants and guaranteed loans;

• Energy audit and renewable energy development assistance grants; and

• Renewable energy feasibility study grants.

This REAP Notice announces the availability of $3,000,000 for fiscal year (FY) 2010 to conduct feasibility studies for renewable energy systems for agriculture producers and rural small businesses. This funding will be available in the form of grants. Funds that are not awarded under this notice will be made available for the Rural Energy for America Program in FY 2011.

Lastly, the Agency intends to publish a proposed rule that will revise the current program at 7 CFR 4280, subpart B to include renewable energy feasibility study grants, and that will add a new subpart C to address energy audit and renewable energy development assistance grants. Together, these two subparts will represent the Rural Energy for America Program as authorized under section 9007 of the Farm Security and Rural Investment Act of 2002 as amended by section 9001 of the Food, Energy, and Conservation Act of 2008. The Agency anticipates publishing final regulations to operate the Rural Energy for America Program in fiscal year 2011.

DATES: Complete applications under this Notice must be received by the appropriate USDA Rural Development State Office no later than 4:30 local time October 5, 2010. Neither complete nor incomplete applications received after this date and time will be considered for funding in FY 2010, regardless of the postmark on the application.

ADDRESSES: Application materials may be obtained by contacting one of Rural Development's Energy Coordinators or by downloading through http://www.grants.gov.

Submit electronic applications at http://www.grants.gov, following the instructions found on this Web site. To use Grants.gov, an applicant (unless the applicant is an individual) must have a Dun and Bradstreet Data Universal Numbering System (DUNS) number, which can be obtained at no cost via a toll-free request line at 1-866-705-5711 or online at http://fedgov.dnb.com/webform. Submit completed paper applications to the Rural Development State Office in the State in which the applicant's proposed project is located.

Rural Development Energy Coordinators

Note: Telephone numbers listed are not toll-free.

Alabama

Quinton Harris, USDA Rural Development, Sterling Centre, Suite 601, 4121 Carmichael Road, Montgomery, AL 36106-3683. (334) 279-3623. Quinton.Harris@al.usda.gov.

Alaska

Dean Stewart, USDA Rural Development, 800 West Evergreen, Suite 201, Palmer, AK 99645-6539. (907) 761-7722. dean.stewart@ak.usda.gov.

American Samoa (See Hawaii)

Arizona

Alan Watt, USDA Rural Development, 230 North First Avenue, Suite 206, Phoenix, AZ 85003-1706. (602) 280-8769. Alan.Watt@az.usda.gov.

Arkansas

Tim Smith, USDA Rural Development, 700 West Capitol Avenue, Room 3416, Little Rock, AR 72201-3225. (501) 301-3280. Tim.Smith@ar.usda.gov.

California

Philip Brown, USDA Rural Development, 430 G Street, #4169, Davis, CA 95616. (530) 792-5811. Phil.brown@ca.usda.gov.

Colorado

April Dahlager, USDA Rural Development, 655 Parfet Street, Room E-100, Lakewood, CO 80215. (720) 544-2909. april.dahlager@co.usda.gov.

Commonwealth of the Northern Marianas Islands—CNMI (See Hawaii)

Connecticut (See Massachusetts)

Delaware/Maryland

Bruce Weaver, USDA Rural Development, 1221 College Park Drive, Suite 200, Dover, DE 19904. (302) 857-3626. Bruce.Weaver@de.usda.gov.

Federated States of Micronesia (See Hawaii)

Florida/Virgin Islands

Joe Mueller, USDA Rural Development, 4440 NW. 25th Place, Gainesville, FL 32606. (352) 338-3482. joe.mueller@fl.usda.gov.

Georgia

J. Craig Scroggs, USDA Rural Development, 111 E. Spring St., Suite B, Monroe, GA 30655. (770) 267-1413 ext. 113. craig.scroggs@ga.usda.gov.

Guam (See Hawaii)

Hawaii/Guam/Republic of Palau/Federated States of Micronesia/Republic of the Marshall Islands/America Samoa/Commonwealth of the Northern Marianas Islands—CNMI

Tim O'Connell, USDA Rural Development, Federal Building, Room 311, 154 Waianuenue Avenue, Hilo, HI 96720. (808) 933-8313. Tim.Oconnell@hi.usda.gov.

Idaho

Brian Buch, USDA Rural Development, 9173 W. Barnes Drive, Suite A1, Boise, ID 83709. (208) 378-5623. Brian.Buch@id.usda.gov.

Illinois

Molly Hammond, USDA Rural Development, 2118 West Park Court, Suite A, Champaign, IL 61821. (217) 403-6210. Molly.Hammond@il.usda.gov.

Indiana

Jerry Hay, USDA Rural Development, 5975 Lakeside Boulevard, Indianapolis, IN 46278. (812) 873-1100. Jerry.Hay@in.usda.gov.

Iowa

Teresa Bomhoff, USDA Rural Development, 873 Federal Building, 210 Walnut Street, Des Moines, IA 50309. (515) 284-4447. teresa.bomhoff@ia.usda.gov.

Kansas

David Kramer, USDA Rural Development, 1303 SW First American Place, Suite 100, Topeka, KS 66604-4040. (785) 271-2730. david.kramer@ks.usda.gov.

Kentucky

Scott Maas, USDA Rural Development, 771 Corporate Drive, Suite 200, Lexington, KY 40503. (859) 224-7435. scott.maas@ky.usda.gov.

Louisiana

Kevin Boone, USDA Rural Development, 905 Jefferson Street, Suite 320, Lafayette, LA 70501. (337) 262-6601, Ext. 133. Kevin.Boone@la.usda.gov.

Maine

John F. Sheehan, USDA Rural Development, 967 Illinois Avenue, Suite 4, P.O. Box 405, Bangor, ME 04402-0405. (207) 990-9168. john.sheehan@me.usda.gov.

Maryland (See Delaware)

Massachusetts/Rhode Island/Connecticut

Charles W. Dubuc, USDA Rural Development, 451 West Street, Suite 2, Amherst, MA 01002. (401) 826-0842 X 306. Charles.Dubuc@ma.usda.gov.

Michigan

Traci J. Smith, USDA Rural Development, 3001 Coolidge Road, Suite 200, East Lansing, MI 48823. (517) 324-5157. Traci.Smith@mi.usda.gov.

Minnesota

Lisa L. Noty, USDA Rural Development, 1400 West Main Street, Albert Lea, MN 56007. (507) 373-7960, Ext. 120. lisa.noty@mn.usda.gov.

Mississippi

G. Gary Jones, USDA Rural Development, Federal Building, Suite 831, 100 West Capitol Street, Jackson, MS 39269. (601) 965-5457. george.jones@ms.usda.gov.

Missouri

Matt Moore, USDA Rural Development, 601 Business Loop 70 West, Parkade Center, Suite 235, Columbia, MO 65203. (573) 876-9321. matt.moore@mo.usda.gov.

Montana

John Guthmiller, USDA Rural Development, 900 Technology Blvd., Unit 1, Suite B, P.O. Box 850, Bozeman, MT 59771. (406) 585-2540. John.Guthmiller@mt.usda.gov.

Nebraska

Debra Yocum, USDA Rural Development, 100 Centennial Mall North, Room 152, Federal Building, Lincoln, NE 68508. (402) 437-5554. Debra.Yocum@ne.usda.gov.

Nevada

Herb Shedd, USDA Rural Development, 1390 South Curry Street, Carson City, NV 89703. (775) 887-1222. herb.shedd@nv.usda.gov.

New Hampshire (See Vermont)

New Jersey

Victoria Fekete, USDA Rural Development, 8000 Midlantic Drive, 5th Floor North, Suite 500, Mt. Laurel, NJ 08054. (856) 787-7752. Victoria.Fekete@nj.usda.gov.

New Mexico

Jesse Bopp, USDA Rural Development, 6200 Jefferson Street, NE., Room 255, Albuquerque, NM 87109. (505) 761-4952. Jesse.bopp@nm.usda.gov.

New York

Scott Collins, USDA Rural Development, 9025 River Road, Marcy, NY 13403. (315) 736-3316 Ext. 4. scott.collins@ny.usda.gov.

North Carolina

David Thigpen, USDA Rural Development, 4405 Bland Rd. Suite 260, Raleigh, NC 27609. (919) 873-2065. David.Thigpen@nc.usda.gov.

North Dakota

Dennis Rodin, USDA Rural Development, Federal Building, Room 208, 220 East Rosser Avenue, P.O. Box 1737, Bismarck, ND 58502-1737. (701) 530-2068. Dennis.Rodin@nd.usda.gov.

Ohio

Randy Monhemius, USDA Rural Development, Federal Building, Room 507, 200 North High Street, Columbus, OH 43215-2418. (614) 255-2424. Randy.Monhemius@oh.usda.gov.

Oklahoma

Jody Harris, USDA Rural Development, 100 USDA, Suite 108, Stillwater, OK 74074-2654. (405) 742-1036. Jody.harris@ok.usda.gov.

Oregon

Don Hollis, USDA Rural Development, 200 SE Hailey Ave, Suite 105, Pendleton, OR 97801. (541) 278-8049, Ext. 129. Don.Hollis@or.usda.gov.

Pennsylvania

Bernard Linn, USDA Rural Development, One Credit Union Place, Suite 330, Harrisburg, PA 17110-2996. (717) 237-2182. Bernard.Linn@pa.usda.gov.

Puerto Rico

Luis Garcia, USDA Rural Development, IBM Building, 654 Munoz Rivera Avenue, Suite 601, Hato Rey, PR 00918-6106. (787) 766-5091, Ext. 251. Luis.Garcia@pr.usda.gov.

Republic of Palau (See Hawaii)

Republic of the Marshall Islands (See Hawaii)

Rhode Island (See Massachusetts)

South Carolina

Shannon Legree, USDA Rural Development, Strom Thurmond Federal Building, 1835 Assembly Street, Room 1007, Columbia, SC 29201. (803) 253-3150. Shannon.Legree@sc.usda.gov.

South Dakota

Douglas Roehl, USDA Rural Development, Federal Building, Room 210, 200 4th Street, SW., Huron, SD 57350. (605) 352-1145. doug.roehl@sd.usda.gov.

Tennessee

Will Dodson, USDA Rural Development, 3322 West End Avenue, Suite 300, Nashville, TN 37203-1084. (615) 783-1350. will.dodson@tn.usda.gov.

Texas

Daniel Torres, USDA Rural Development, Federal Building, Suite 102, 101 South Main Street, Temple, TX 76501. (254) 742-9756. Daniel.Torres@tx.usda.gov.

Utah

Roger Koon, USDA Rural Development, Wallace F. Bennett Federal Building, 125 South State Street, Room 4311, Salt Lake City, UT 84138. (801) 524-4301. Roger.Koon@ut.usda.gov.

Vermont/New Hampshire

Cheryl Ducharme, USDA Rural Development, 89 Main Street, 3rd Floor, Montpelier, VT 05602. (802) 828-6083. cheryl.ducharme@vt.usda.gov.

Virginia

Laurette Tucker, USDA Rural Development, Culpeper Building, Suite 238, 1606 Santa Rosa Road, Richmond, VA 23229. (804) 287-1594. Laurette.Tucker@va.usda.gov.

Virgin Islands (See Florida)

Washington

Mary Traxler, USDA Rural Development, 1835 Black Lake Blvd. SW., Suite B, Olympia, WA 98512. (360) 704-7762. Mary.Traxler@wa.usda.gov.

West Virginia

Richard E. Satterfield, USDA Rural Development, 75 High Street, Room 320, Morgantown, WV 26505-7500. (304) 284-4874. Richard.Satterfield@wv.usda.gov.

Wisconsin

Brenda Heinen, USDA Rural Development, 4949 Kirschling Court, Stevens Point, WI 54481. (715) 345-7615, Ext. 139. Brenda.Heinen@wi.usda.gov.

Wyoming

Jon Crabtree, USDA Rural Development, Dick Cheney Federal Building, 100 East B Street, Room 1005, P.O. Box 11005, Casper, WY 82602. (307) 233-6719. Jon.Crabtree@wy.usda.gov.

FOR FURTHER INFORMATION CONTACT: For information about this Notice, please contact the USDA Rural Development—Energy Division, Program Branch, STOP 3225, Room 6870, 1400 Independence Avenue, SW., Washington, DC 20250-3225. Telephone: (202) 720-1400.

For program assistance, please contact the applicable Rural Development Energy Coordinator, as provided in the Addresses section of this Notice.

SUPPLEMENTARY INFORMATION:

Paperwork Reduction Act

In accordance with the Paperwork Reduction Act of 1995, the information collection requirements associated with renewable energy feasibility study grants, as covered in this REAP notice, has been approved by the Office of Management and Budget (OMB) under OMB Control Number 0570-0061.

The information collection requirements associated with renewable energy system and energy efficiency improvement grants and guaranteed loans and with energy audits and renewable energy development assistance grants, which will be addressed in their respective REAP notices, have also been approved by OMB under OMB Control Number 0570-0050 and OMB Control Number 0570-0059, respectively. When the Agency publishes the proposed rule for REAP, it will consolidate the information collection requirements associated with this REAP notice and the other two REAP notices into a single information collection package for OMB approval.

Overview Information

Federal Agency Name. Rural Business-Cooperative Service.

Funding Opportunity Title. Renewable Energy Feasibility Studies Grants under the Rural Energy for America Program.

Announcement Type. Initial announcement.

Catalog of Federal Domestic Assistance (CFDA) Number. This program is listed in the Catalog of Federal Domestic Assistance under Number 10.868.

DATES. All applications must be completed and received in the appropriate United States Department of Agriculture (USDA) State Rural Development Office no later than 4:30 p.m. local time October 5, 2010, in order to be considered for funding in FY 2010. Applications received after 4:30 p.m. local time October 5, 2010, regardless of the application's postmark, will not be considered for funding in FY 2010.

Availability of Notice. This Notice is available on the USDA Rural Development Web site at: http://www.rurdev.usda.gov/rbs/busp/REAPFEAS.htm.

I. Funding Opportunity Description

A. Purpose. This Notice is issued pursuant to section 9001 of the Food, Conservation, and Energy Act of 2008 (2008 Farm Bill), which amends Title IX of the Farm Security and Rural Investment Act of 2002 (FSRIA) and establishes the Rural Energy for America Program under section 9007 thereof. The 2008 Farm Bill requires the Secretary of Agriculture to create a program to make grants to help agricultural producers and rural small businesses complete feasibility studies for projects that will help meet the Nation's critical energy needs. The grant request may not exceed 25 percent of eligible project costs or $50,000, whichever is less.

B. Statutory Authority. This activity (feasibility study) is found in the Rural Energy for America Program, which is authorized under Title IX, Section 9001, of the Food, Conservation, and Energy Act of 2008 (Pub. L. 110-246).

C. Definition of Terms. The following terms and the terms defined in 7 CFR part 4280 are applicable to this Notice. If this Notice and 7 CFR part 4280 both define the same term, that term shall have the meaning provided in this Notice.

Administrator. The Administrator of Rural Business-Cooperative Service within the Rural Development Mission Area of the U.S. Department of Agriculture.

Departmental regulations. The regulations of the Department of Agriculture's Office of the Chief Financial Officer (or successor office) as codified in 7 CFR parts 3000 through 3099, including but not necessarily limited to 7 CFR parts 3015 through 3019, 7 CFR part 3021, and 7 CFR part 3052, and successor regulations to these parts.

Hydroelectric energy. Electrical energy created by use of various types of moving water including, but not limited to, diverted run-of-river water, in-stream run-of-river water, and in-conduit water.

Hydropower. Energy created by hydroelectric or ocean energy.

Ocean energy. Energy created by use of various types of moving water including, but not limited to, tidal, wave, current, and thermal changes.

Rated power. The amount of energy that can be created at any given time.

Renewable biomass.

(i) Materials, pre-commercial thinnings, or invasive species from National Forest System land and public lands (as defined in section 103 of the Federal Land Policy and Management Act of 1976 (43 U.S.C. 1702)) that:

(A) Are byproducts of preventive treatments that are removed to reduce hazardous fuels; to reduce or contain disease or insect infestation; or to restore ecosystem health;

(B) Would not otherwise be used for higher-value products; and

(C) Are harvested in accordance with applicable law and land management plans and the requirements for old-growth maintenance, restoration, and management direction of paragraphs (e)(2), (e)(3), and (e)(4) and large-tree retention of subsection (f) of section 102 of the Healthy Forests Restoration Act of 2003 (16 U.S.C. 6512); or

(ii) Any organic matter that is available on a renewable or recurring basis from non-Federal land or land belonging to an Indian or Indian Tribe that is held in trust by the United States or subject to a restriction against alienation imposed by the United States, including:

(A) Renewable plant material, including feed grains; other agricultural commodities; other plants and trees; and algae; and

(B) Waste material, including crop residue; other vegetative waste material (including wood waste and wood residues); animal waste and byproducts (including fats, oils, greases, and manure); and food waste and yard waste.

Renewable energy. Energy derived from:

(i) A wind, solar, renewable biomass, ocean (including tidal, wave, current, and thermal), geothermal or hydroelectric source; or

(ii) Hydrogen derived from renewable biomass or water using wind, solar, ocean (including tidal, wave, current, and thermal), geothermal or hydroelectric energy sources.

RES. Renewable energy system.

Small hydropower. A hydropower project for which the rated power of the system is 30 megawatts or less.

II. Funding Information

A. Available Funds. The amount of grant funds available for renewable energy system feasibility studies in FY 2010 is $3,000,000.

Based on the quality of the applications received under this REAP notice, the Agency reserves the right, at its discretion, to move funds from this Notice to fund applications received under the other two REAP notices. Conversely, the Agency may, at its discretion, move money for the other two REAP notices to fund applications received under this REAP notice. The Agency's ability to move funds is subject to the limitation contained in section 9007(c)(3)(B) of the Farm Security and Rural Investment Act of 2002, which limits funding for feasibility studies to not exceed more than 10 percent of the funds made available to carry out the total amount made available under this REAP notice and the renewable energy system and energy efficiency improvements REAP notice.

B. Number of awards. The number of awards will depend on the number of eligible applicants participating in the feasibility study grant portion of the Rural Energy for America Program.

C. Grant Funding Limitations. For the purposes of this Notice, the maximum amount of grant assistance to one individual or entity will not exceed $750,000 for FY 2010 based on the total amount of renewable energy system, energy efficiency improvement, and renewable energy system feasibility study grants awarded to that individual or entity under the Rural Energy for America Program. The Agency will not use more than 10 percent of funds for grants to conduct renewable energy system feasibility studies.

D. Types of Instrument. Grant.

III. Application Submission Information

Applicants seeking to participate in this program must submit applications in accordance with this Notice and 7 CFR part 4280, subpart B, as applicable. Applicants must submit complete applications in order to be considered. Applications must be from the prospective owner(s) of the renewable energy system for which the feasibility study grant is sought. Applications from other entities (e.g., entities that would be conducting the feasibility study and are not owners) will not be accepted. Finally, note that for the Agency to consider an application, the application must include all environmental review documents with supporting documentation in accordance with 7 CFR part 1940 subpart G.

A. Where To Obtain Applications

Applicants may obtain applications from applicable Rural Development Energy Coordinators, as provided in the ADDRESSES section of this Notice. In addition, applicants may access the electronic grant application for the Rural Energy for America Program at http://www.Grants.gov. To locate the downloadable application package for this program, the applicant must use the program's CFDA Number (i.e., 10.868) or FedGrants Funding Opportunity Number, which can be found at http://www.Grants.gov. To use Grants.gov, all applicants must have a Dun and Bradstreet Data Universal Numbering System (DUNS) number, (unless the applicant is an individual) which can be obtained at no cost via a toll-free request line at 1-866-705-5711 or online at http://fedgov.dnb.com/webform.

B. When To Submit

Submit applications to the appropriate USDA Rural Development State Office by October 5, 2010. All applications must be received at the appropriate State Office by 4:30 p.m. local time on the deadline date.

C. Where To Submit

Applications are to be submitted to the Rural Development Energy Coordinator in the State in which the applicant's proposed project is located. A list of Rural Development Energy Coordinators is provided in the ADDRESSES section of this Notice. Alternatively, applicants may submit their applications to the Agency via the Grants.gov Web site.

D. How To Submit

Applications may be submitted either as hard copy to the appropriate Rural Development Energy Coordinator or electronically using the government-wide Grants.gov Web site. Users of Grants.gov who download a copy of the application package may complete it off line and then upload and submit the application via the Grants.gov site, including all information typically included on the application, and all necessary assurances and certifications. After electronically submitting an application through the Web site, the applicant will receive an automated acknowledgement from Grants.gov that contains a Grants.gov tracking number.

E. Other Submission Requirements and Information

(1) Grants.gov. When you enter the Grants.gov site, you will find information about submitting an application electronically through the site as well as the hours of operation. USDA Rural Development strongly recommends that applicants do not wait until the application deadline date to begin the application process through Grants.gov.

(2) Original signatures. USDA Rural Development may request that the applicant provide original signatures on forms submitted through Grants.gov at a later date.

(3) Intergovernmental review. The Rural Energy for America Program is subject to the provisions of Executive Order 12372, which requires intergovernmental consultation with State and local officials.

IV. Program Provisions

This section of the Notice identifies the procedures the Agency will use to process and select feasibility study applications, award grants, and administer such financial assistance.

A. Eligibility

Applicants and their applications are subject to the provisions of this Notice and to the grant provisions of 7 CFR part 4280, subpart B, as may be modified under this Notice.

(1) Applicant eligibility. To be eligible for a feasibility study grant under this Notice, the applicant must:

(i) Be a rural small business or agricultural producer as defined in 7 CFR 4280.103,

(ii) Meet the eligibility criteria of 7 CFR 4280.107; and

(iii) Be the prospective owner of the renewable energy system for which the feasibility study grant is sought.

(2) Project eligibility. Feasibility studies must be for a renewable energy system that:

(i) Is for the purchase, installation, expansion, or other energy-related improvement of a renewable energy system;

(ii) Is located in a rural area as identified in 7 CFR 4280.108(d); and

(iii) Is for technology that is pre-commercial or commercially available, and that is replicable.

B. Grant Funding

The maximum amount for a feasibility study grant under this Notice is $50,000 or 25 percent of the eligible project cost (as described below) of the study, whichever is less. The Grantee will have 2 years from the date of the grant agreement to provide the Agency with a complete and acceptable feasibility study and to request disbursement of the funds as described in Section IV(K) of this Notice. If the Grantee does not submit to the Agency a complete and acceptable feasibility study within this 2 year period, the grant is subject to termination by and reimbursement to the Agency according to Departmental Regulations.

C. Project Costs

(1) Eligible project costs will be considered by the Agency when determining the amount of the grant and include:

(i) Those costs incurred after the application submittal date; and

(ii) Specific to the development of the feasibility study, (refer to Appendix A for further information on the content of a feasibility study) including, but not limited to:

(A) Resource assessment;

(B) Transmission study; and

(C) Environmental study.

(2) Ineligible grant purposes include:

(i) Costs associated with selection of engineering, architectural, or environmental services;

(ii) Designing, bidding, or contract development for the proposed facility;

(iii) Permitting and other licensing costs required to construct the facility;

(iv) Conducting industry-level feasibility studies also known as feasibility study templates or guides because the assistance is not provided to a specific project; and

(v) Pay for any goods or services provided by a person or entity who has a conflict of interest as described in 7 CFR 4280.106.

D. Application Restrictions

Feasibility study applications:

(1) Can apply for only one renewable energy system feasibility study project under this Notice;

(2) Have completed the environmental review process according to 7 CFR 4280.114(d);

(3) Which are complete will be eligible for funding consideration;

(4) Can be submitted for a modification to an existing renewable energy system (e.g., for the expansion portion of an existing wind farm);

(5) Cannot be submitted for a renewable energy system project for which a feasibility study has been conducted or funded under any Federal or State program; and

(6) Cannot be submitted in FY 2010 for a RES project if an RES application for the same renewable energy system is submitted in FY 2010 and vice versa.

E. Applications

An original and one complete copy of each application are required that follow the outline below. Each application must include a Table of Contents with clear pagination and chapter identification and the following:

(1) Form SF-424, “Application for Federal Assistance;”

(2) Form SF-424C, “Budget Information—Construction Programs;”

(3) Form SF-424D, “Assurances—Construction Programs;”

(4) Form RD 1940-20, “Request for Environmental Information” (if applicable);

(5) If an entity, one copy of the applicant's organizational documents; and

(6) A proposed work plan, which includes:

(i) A brief description of the proposed system the feasibility study will evaluate;

(ii) A description of the feasibility study to be conducted. An acceptable feasibility study is outlined in Appendix A to this Notice. Applicants must require those conducting the feasibility study to consider and document within the feasibility study the important environmental factors within the planning area and the potential environmental impacts of the project for which the feasibility study is being conducted, as well as the alternatives considered;

(iii) The timeframe for completion of the feasibility study;

(vi) The experience of the company/individual completing the feasibility study, including the number of similar projects the company/individual has performed, the number of years the company has been performing a similar service, and corresponding resumes;

(v) The source and amount of other project funds needs to be clearly identified. Agency approved written documentation/confirmation from any third party committing a specific amount of such funds is required. Documentation includes such items as bank statements, lender commitment letters, and so forth; and

(vi) Sufficient financial information to allow the Agency to determine the applicant's size. All information submitted under this paragraph must be substantiated by authoritative records:

(A) If the applicant is a rural small businesses, provide sufficient information to determine its total annual receipts and number of employees and the same information for any parent, subsidiary, or affiliates at other locations. Voluntarily providing tax returns is one means of satisfying this requirement. The information provided must be sufficient for the Agency to make a determination of business size as defined by the Small Business Administration; and

(B) If the applicant is an agricultural producer, provide the gross market value of the agricultural products, gross agricultural income, and gross nonfarm income of the applicant for the calendar year preceding the year in which the application is submitted;

(7) Any Intergovernmental review comments from the State Single Point of Contact, or evidence that the State has elected not to review the program under Executive Order 12372;

(8) A certification that the applicant has not received any other Federal or State assistance for the same RES project that is the subject of the application; and

(9) A certification that the applicant has not received any other Federal or State assistance for a feasibility study for the subject renewable energy system.

F. Evaluation of Applications

Feasibility study applications submitted under this Notice will be evaluated by the applicable Energy Coordinator for eligibility, completeness, and scoring.

(1) General review. The Agency will evaluate each application and make a determination as to whether the applicant is eligible, the proposed grant is for an eligible feasibility study, and the proposed grant complies with all applicable statutes and regulations.

(i) Applicant eligibility. The Agency will first determine whether the entity is eligible to compete for a feasibility study grant. Applications for applicants determined by the Agency not to be eligible will not be processed further. The Agency will determine applicant eligibility based on the criteria specified in this section.

(ii) Proposal eligibility. After determining applicant eligibility, the Agency will review the application to determine if the proposal is eligible. Applications determined by the Agency not to be eligible will not be processed further. The Agency will determine whether the application contains certification by the applicant that the applicant has neither sought nor received any other Federal or State assistance for a feasibility study on the subject facility. If the application does not contain such certification, it is an ineligible application and the Agency will stop processing the application. If the application contains such certification, the Agency will continue processing it.

(2) Ineligible applicants and applications. If either the applicant or the application is ineligible, the Agency will inform the applicant in writing of the decision, reasons therefore, and any appeal rights. No further evaluation of the application will occur.

(3) Incomplete applications. If the application is incomplete, the Agency will return it to the applicant. The Agency will identify those parts of the application that are incomplete. The applicant may resubmit the application, as long as it is received by the appropriate USDA Rural Development State Office no later than 4:30 local time October 5, 2010.

G. Scoring Applications

The Agency will assign a score to each eligible application as follows:

(1) Energy replacement or generation. The project can be for either replacement or generation, but not both. A maximum of 25 points can be awarded under this section.

(i) Energy replacement. 25 points will be awarded if proposed project will offset a portion or all of the applicant's energy needs.

(ii) Energy generation. 15 points will be awarded if the proposed renewable energy system is intended primarily for production of energy for sale.

(2) Commitment of funds for the feasibility study. Other Federal or State assistance for only the feasibility study would make the request ineligible. Appropriate documentation must verify commitment of funds. A maximum of 10 points can be awarded under this section.

(i) 10 points—100 percent of matching funds.

(ii) 7.5 points—75 percent up to, but not including 100 percent of matching funds.

(iii) 5 points—50 percent up to, but not including 75 percent of matching funds.

(iv) 0 points—less than 50 percent of matching funds.

(3) Designation as a Small agricultural producer/very small business. An applicant will be considered either an agricultural producer or rural small business. No applicant will be considered as both. Points will only be awarded under either paragraph (3)(i) or (3)(ii). A maximum of 20 points can be awarded under this section.

(i) For an Agricultural Producer:

(A) 10 points will be awarded if the applicant is an agricultural producer producing agricultural products with a gross market value of less than $600,000 in the preceding year, or

(B) 20 points will be awarded if the applicant is an agricultural producer producing agricultural products with a gross market value of less than $200,000 in the preceding year.

(ii) For a Rural Small Business, 20 points will be awarded if the applicant is a very small business, as defined in 7 CFR 4280.103.

(4) Experience and qualifications of the entity identified to perform the feasibility study. A maximum of 15 points can be awarded under this section.

(i) 15 points will be awarded if the entity has 5 or more years experience in the field of study for the technology being proposed.

(ii) 7.5 points will be awarded if the entity has 2 or more years, but less than 5 years, experience in the field of study for the technology field being proposed.

(iii) 0 points will be awarded if the entity has less than 2 years experience in the field of study for the technology field being proposed.

(5) Size of feasibility study grant request. A maximum of 20 points can be awarded under this section.

(i) 20 points will be awarded if the feasibility study request is $10,000 or less.

(ii) 10 points will be awarded if the feasibility study request is more than $10,000 up to $25,000.

(iii) 0 points will be awarded if the feasibility study request is greater than $25,000.

(6) Resources to implement project. Considering the technology being proposed, the applicant may qualify for other local or State programs to assist in the construction, or operation of the facility. These programs will benefit the applicant and/or proposed project during or after the facility is constructed and operational. A maximum of 10 points can be awarded under this section.

(i) 5 points will be awarded if the applicant has identified local programs.

(ii) 5 points will be awarded if the applicant has identified State programs.

H. Award Process

The Agency will use the following process to determine which grants receive funding under this Notice.

(1) Ranking of applications. All scored applications will be ranked by the Agency as soon after the application deadline as possible. All applications that are ranked will be considered for selection for funding.

(2) Selection of applications for funding. Applications will be selected based on their rank in accordance with their scores. If, after the majority of applications have been funded, insufficient funds remain to fund the next highest scoring application, the Agency may elect to fund a lower scoring application. Before this occurs, the Agency will provide the applicant of the higher scoring application the opportunity to reduce the amount of its grant request to the amount of funds available. If the applicant agrees to lower its grant request, it must certify that the purposes of the project can be met, and the Agency must determine the project is financially feasible at the lower amount. The Agency will notify, in writing, applicants whose applications have been selected for funding.

(3) Disposition of ranked applications not funded. Based on the availability of funding, a ranked application may not be funded in the fiscal year in which it was submitted. Such ranked applications will not be carried forward into the next fiscal year and the Agency will notify the applicant in writing.

I. Actions Prior to Grant Closing

(1) Environmental. If construction is a component of the study, the appropriate level of environmental assessment must be completed prior to the obligation of funds. All feasibility study grants made under this Notice are subject to the requirements of subpart G of part 1940 of this title. When construction is not a component of the study, feasibility studies are considered planning assistance, which are categorically excluded from the environmental review process by § 1940.310 of this title.

(2) Changes in project cost or scope. If there is a significant reduction in project cost or changes in project scope, the applicant's funding needs, eligibility, and scoring, as applicable, will be reassessed. Decreases in Agency funds will be based on revised project costs and other selection factors; however, other factors, including Agency regulations and Notices used at the time of grant approval, will remain the same. Obligated grant funds not needed to complete the project will be de-obligated.

(3) Evidence of other funds. Applicants expecting funds from other sources for use in completing projects being partially financed with Agency funds shall present evidence of the commitment of these funds from such other sources prior to disbursement of grant funds.

J. Approval Process

(1) Letter of conditions. The Agency will notify the approved applicant in writing, setting out the conditions under which the grant will be made. The Notice will include those matters necessary to ensure that the proposed grant is completed in accordance with the terms of the scope of work and budget, that grant funds are expended for the feasibility study, and that the applicable requirements prescribed in the relevant Departmental Regulations are complied with. The Letter of Conditions will be sent to the applicant.

(2) Letter of Intent to Meet Conditions. Upon reviewing the conditions and requirements in the Letter of Conditions, the applicant must complete, sign and return a Form RD 1942-46, “Letter of Intent to Meet Conditions,” to the Agency; or if certain conditions cannot be met, the applicant may propose alternate conditions to the Agency. The Agency must concur with any changes proposed to the Letter of Conditions by the applicant before the application will be further processed.

(3) Grant agreement, forms, and certifications. Prior to grant disbursement, but after grant obligation, the applicant must complete, sign, and return a Grant Agreement, which is attached to this Notice as Appendix B. In addition, the following forms and certifications must be submitted prior to grant approval:

(i) Certification that the feasibility study grant will be for a renewable energy system project that is located in a rural area;

(ii) Form AD-1047, “Certification Regarding Debarment, Suspension, and Other Responsibility Matters—Primary Covered Transactions;”

(iii) Form AD-1048, “Certification Regarding Debarment, Suspension, Ineligibility and Voluntary Exclusion—Lower Tier Covered Transactions,” including certification from any person or entity you do business with as a result of this government assistance that they are not debarred or suspended from government assistance;

(iv) Form AD-1049, “Certification Regarding Drug-Free Workplace Requirements (Grants) Alternative I—For Grantees Other Than Individuals;”

(v) Form SF-LLL, “Disclosure Form to Report Lobbying” or Exhibit A-1 of RD Instruction 1940-Q, “Certification for Contracts, Grants, and Loans;” and

(vi) Form RD 400-4, “Assurance Agreement.”

(4) Grant approval. Form RD 1940-1 must be signed by the applicant.

(i) The applicant will be sent a copy of the executed Form RD 1940-1, the approved scope of work, and a Grant Agreement (see Appendix B to this Notice).

(ii) The Grantee must abide by all requirements contained in the Grant Agreement, this Notice, and any other applicable Federal statutes or regulations. Failure to follow the requirements may result in termination of the grant and adoption of other available remedies.

K. Fund Disbursement

Grant funds will be expended on a pro rata basis with matching funds.

(1) Requests for reimbursement may be submitted monthly or more frequently if authorized to do so by the Agency. Ordinarily, payment will be made within 30 days after receipt of a proper request for reimbursement.

(2) The Grantee shall not request reimbursement for the Federal share of amounts withheld from contractors to ensure satisfactory completion of work until after it makes those payments.

(3) Payment shall be made by electronic funds transfer.

(4) Standard Form 270, “Request for Advance or Reimbursement,” or other format prescribed by the Agency shall be used to request grant reimbursements.

(5) For renewable energy system feasibility studies, grant funds will be disbursed in accordance with the above through 90 percent of grant disbursement. The final 10 percent of grant funds will be held by the Agency until a feasibility study acceptable to the Agency has been submitted.

L. Deobligation of Grant Funds

Funds remaining after all costs incident to the project have been paid or provided for are subject to deobligation.

M. Monitoring and Reporting Project Performance

(1) Monitoring of project. Grantees are responsible for ensuring all activities are performed within the approved scope of work and that funds are only used for approved purposes. Grantees shall constantly monitor performance to ensure that time schedules are being met, projected work by time periods is being accomplished, financial resources appropriately expended by contractors (if applicable), and any other performance objectives identified in the scope of work are being achieved. To the extent resources are available, the Agency will monitor Grantees to ensure that activities are performed in accordance with the Agency-approved scope of work and to ensure that funds are expended for approved purposes. The Agency's monitoring of Grantees neither relieves the Grantee of its responsibilities to ensure that activities are performed within the scope of work approved by the Agency and that funds are expended for approved purposes only nor provides recourse or a defense to the Grantee should the Grantee conduct unapproved activities, engage in unethical conduct, engage in activities that are or give the appearance of a conflict of interest, or expend funds for unapproved purposes.

(2) Federal financial reports. A SF-425, “Federal Financial Report,” and a project performance report will be required of all Grantees on a semiannual basis. The Grantee will complete the project within the total sums available to it, including the grant, in accordance with the scope of work and any necessary modifications thereof prepared by the Grantee and approved by the Agency. The final Federal financial report must be submitted to the Agency within 90 days after the feasibility study has been completed.

(3) Performance reports. Grantees must submit to the Agency, in writing, semiannual performance reports and a final performance report. Grantees are to submit an original of each report to the Agency.

(i) Semiannual performance reports. Each semiannual performance report shall describe current progress and identify any problems, delays, or adverse conditions, if any, which have affected or will affect attainment of overall project objectives or prevent meeting time frame for completion of the feasibility study within 2 years. This disclosure shall be accompanied by a statement of the action taken or planned to resolve the situation.

(ii) Final performance report. A final performance report, which will serve as the last semiannual performance report, will be required within 90 days after the feasibility study has been completed. The final performance report shall summarize any problems, delays, or adverse conditions, if any, which have affected the project objectives or prevented meeting time frames for completion of the feasibility study. The final performance report should indicate if the Grantee intends to proceed with the construction of the project.

(4) Final deliverables. Upon completion of the feasibility study, the Grantee shall submit the following to the Agency:

(i) The project feasibility study; and

(ii) SF-270, “Request for Advance or Reimbursement.”

(5) Reports required after feasibility study completion. Beginning the first full year after the feasibility study has been completed, Grantees shall report annually for 2 years on the following:

(i) Is the renewable energy system project for which the feasibility study was conducted underway? If `yes,' describe how far along the renewable energy system project is (e.g., financing has been secured, site has been secured, construction contracts are in place, project completed).

(ii) Is the renewable energy system project complete? If so, what is the actual amount of energy being produced?

(6) Other reports. For clarification purposes, the Agency may request any additional project and/or performance data for the project for which grant funds have been received.

N. Financial Management System and Records

Grantees are required to maintain a financial management system and records in accordance with 7 CFR 3015.

O. Grant Servicing

Grants will be serviced in accordance with Departmental Regulations and 7 CFR part 1951, subparts E and O. Grantees will permit periodic inspection of the project records and operations by a representative of the Agency. All non-confidential information resulting from the Grantee's activities shall be made available to the general public on an equal basis.

P. Programmatic Changes

The Grantee shall obtain prior Agency approval for any change to the scope or objectives of the approved project. Failure to obtain prior approval of changes to the scope of work or budget may result in suspension, termination, and recovery of grant funds.

Q. Transfer of Obligations

Subject to Agency approval, an obligation of funds established for a Grantee may be transferred to a different (substituted) Grantee provided:

(1) The substituted Grantee

(i) Is eligible;

(ii) Has a close and genuine relationship with the original Grantee; and

(iii) Has the authority to receive the assistance approved for the original Grantee; and

(2) The type of renewable energy technology and the scope of the project for which the Agency funds will be used remain unchanged.

R. Grant Close Out and Related Activities

In addition to the requirements specified in the Departmental regulations, failure to submit satisfactory reports on time under the provisions of the Monitoring and Reporting Project Performance requirements of this Notice may result in the suspension or termination of a grant. The provisions of this section apply to grants and sub-grants.

V. Administrative Information Applicable to this Notice

A. Notifications

(1) Eligibility. If an applicant is determined by the Agency to be eligible for participation, the Agency will notify the applicant in writing. If an applicant is determined by the Agency to be ineligible, the Agency will notify the applicant, in writing, as to the reason(s) the applicant was rejected. Such applicant will have appeal rights as specified in this Notice.

(2) Award. Each applicant will be notified of the Agency's decision on their application.

B. Administrative and National Policy Requirements

(1) Review or appeal rights. A person may seek a review of an adverse Agency decision under this Notice from the appropriate Agency official that oversees the program in question or appeal to the National Appeals Division in accordance with 7 CFR part 11.

(2) Notification. If at any time prior to application approval it is decided that favorable action will not be taken on an application, the Agency will notify the applicant in writing of the decision and of the reasons why the request was not favorably considered. The notification will inform applicant of their right to informal review, mediation, and appeal of the decision in accordance with 7 CFR part 11.

C. Exception Authority

Except as specified in paragraphs (1) through (3) of this section, the Administrator may make exceptions to any requirement or provision of this Notice, if such exception is in the best financial interests of the Federal Government and is otherwise not in conflict with applicable laws.

(1) Applicant eligibility. No exception to applicant eligibility can be made.

(2) Project eligibility. No exception to project eligibility can be made.

(3) Rural area definition. No exception to the definition of rural area can be made.

D. Member or Delegate Clause

No member of or delegate to Congress shall receive any share or part of this grant or any benefit that may arise there from; but this provision shall not be construed to bar as a contractor under the grant a publicly held corporation whose ownership might include a member of Congress.

E. Other USDA Regulations

Feasibility study grants awarded under this Notice are subject to the provisions of the Departmental Regulations, as applicable, which are incorporated by reference herein.

VI. Agency Contacts

Notice Contact. For further information about this Notice, please contact the USDA Rural Development-Energy Division, Program Branch, STOP 3225, Room 6867, 1400 Independence Avenue, SW., Washington, DC 20250-3225. Telephone: (202) 720-1400.

For assistance on this Notice, please contact one of Rural Development's Energy Coordinators, as provided in the Addresses section of this Notice.

VII. Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice), or (202) 720-6382 (TDD). “USDA is an equal opportunity provider, employer, and lender.”

VIII. Civil Rights Compliance Requirements

All grants and guaranteed loans made under this Notice are subject to title VI of the Civil Rights Act of 1964 and part 1901, subpart E of this title.

Dated: August 2, 2010.
Judith A. Canales,
Administrator, Rural Business-Cooperative Service.

Appendix A—Renewable Energy System Feasibility Study

Elements in an acceptable feasibility study include, but are not necessarily limited to, the following elements:

• Executive Summary,

• Economic Feasibility,

• Market Feasibility,

• Technical Feasibility (including the appropriate technical report),

• Financial Feasibility,

• Management Feasibility, and

• Qualifications.

As noted above, both a technical report for the project and an economic analysis of the project are required as part of the feasibility study. The technical report to be provided must conform to that required under 7 CFR part 4280, as applicable or, if the renewable energy system is a hydropower project, under this Notice. The following paragraphs describe the contents that each section of the feasibility study must contain, as applicable.

Executive Summary. Provide an introduction and overview of the project. In the overview, describe the nature and scope of the proposed project, including purpose, project location, design features, capacity, and estimated total capital cost. Include a summary of each of the elements of the feasibility study, including:

• Economic feasibility determinations,

• Market feasibility determinations,

• Technical feasibility determinations,

• Financial feasibility determinations, and

• Management feasibility determinations.

In addition, include a section on recommendations for implementation of the proposed project.

Economic Feasibility. Provide information regarding project site; the availability of trained or trainable labor; and the availability of infrastructure, including utilities, and rail, air and road service to the site. Discuss feedstock source management, including feedstock collection, pre-treatment, transportation, and storage, and provide estimates of feedstock volumes and costs. Discuss the proposed project's potential impacts on existing manufacturing plants or other facilities that use similar feedstock if the proposed technology is adopted. Provide projected impacts of the proposed project on resource conservation, public health, and the environment. Provide an overall economic impact of the project including any additional markets created (e.g., for agricultural and forestry products and agricultural waste material) and potential for rural economic development. Provide feasibility/plans of project to work with producer associations or cooperatives including estimated amount of annual feedstock and biofuel and byproduct dollars from producer associations and cooperatives.

Market Feasibility. Provide information on the sales organization and management. Discuss the nature and extent of market and market area and provide marketing plans for sale of projected output, including both the principle products and the by-products. Discuss the extent of competition including other similar facilities in the market area. Provide projected total supply and projected competitive demand of raw materials. Describe the procurement plan, including projected procurement costs and the form of commitment of raw materials (marketing agreements, etc.). Identify commitments from customers or brokers for both the principle products and the by-products. Discuss all risks related to the industry, including industry status.

Technical Feasibility. The technical feasibility report shall be based upon verifiable data and contain sufficient information and analysis so that a determination may be made on the technical feasibility of achieving the levels of income or production that are projected in the financial statements. The project engineer or architect is considered an independent party provided neither the principals of the firm nor any individual of the firm who participates in the technical feasibility report has a financial interest in the project. If no other individual or firm with the expertise necessary to make such a determination is reasonably available to perform the function, an individual or firm that is not independent may be used.

Identify any constraints or limitations in the financial projections and any other facility or design-related factors that might affect the success of the enterprise. Identify and estimate project operation and development costs and specify the level of accuracy of these estimates and the assumptions on which these estimates have been based.

Discuss all risks related to construction of the project and regulation and governmental action as they affect the technical feasibility of the project.

Financial Feasibility. Discuss the reliability of the financial projections and assumptions on which the financial statements are based including all sources of project capital both private and public, such as Federal funds. Provide 3 years (minimum) projected Balance Sheets and Income Statements and cash flow projections for the life of the project. Discuss the ability of the business to achieve the projected income and cash flow. Provide an assessment of the cost accounting system. Discuss the availability of short-term credit or other means to meet seasonable business costs and the adequacy of raw materials and supplies. Provide a sensitivity analysis, including feedstock and energy costs. Discuss all risks related to the project, borrower financing plan, the operational units, and tax issues.

Management Feasibility. Discuss the continuity and adequacy of management. Identify borrower and/or management's previous experience concerning the receipt of Federal financial assistance, including amount of funding, date received, purpose, and outcome. Discuss all risks related to the borrower as a company (e.g., borrower is at the Development-Stage) and conflicts of interest, including appearances of conflicts of interest.

Qualifications. Provide a resume or statement of qualifications of the author of the feasibility study, including prior experience.

Appendix B—Grant Agreement For Renewable Energy System Feasibility Studies

This GRANT AGREEMENT (Agreement) is a contract for receipt of grant funds of $_______, to conduct feasibility studies for renewable energy system projects under the Rural Energy for America Program, Title IX, Section 9001 of the Food, Conservation, and Energy Act of 2008, (P.L. 110-234) between _________ (Grantee) and the United States of America acting through Rural Development, Department of Agriculture (Grantor). All references herein to “project” refer to renewable energy system feasibility study project identified in the work plan submitted with the application. Should actual project costs be lower than projected in the work plan, the final amount of the grant may be adjusted.

(1) Assurance Agreement

Grantee assures Grantor that Grantee is in compliance with and will comply in the course of the Agreement with all applicable laws, regulations, Executive Orders, and other generally applicable requirements, including those contained in the Departmental Regulations as codified in 7 CFR parts 3000 through 3099, including but not necessarily limited to 7 CFR parts 3015 and successor regulations to these parts, which are incorporated into this agreement by reference, any Notices relating to this program published in the Federal Register, and other applicable statutory provisions.

Grantee and Grantor agree to all of the terms and provisions of any policies and regulations promulgated under Title IX, Section 9001 of the Food, Conservation, and Energy Act of 2008. Any application submitted by the Grantee for this grant, including any attachments or amendments, is incorporated and included as part of this Agreement. Any changes to these documents or this Agreement must be approved in writing by Grantor.

Grantor may terminate the grant in whole, or in part, at any time before the date of completion, whenever it is determined that the Grantee has failed to comply with the conditions of this Agreement.

(2) Use of Grant Funds

Grantee will use grant funds and leveraged funds only for the purposes and tasks included in the application and budget approved by the Grantor. The approved budget and approved use of funds are as further described in the Grantor Letter of Conditions and amendments or supplements thereto. Any uses not provided for in the approved budget must be approved in writing by Grantor.

(3) Civil Rights Compliance

Grantee will comply with Executive Order 12898, Title VI of the Civil Rights Act of 1964, and Section 504 of the Rehabilitation Act of 1973. This shall include collection and maintenance of data on the race, sex, disability, and national origin of Grantee's membership/ownership and employees. These data must be available to Grantor in its conduct of Civil Rights Compliance Reviews, which will be conducted prior to grant closing and 3 years later, unless the final disbursement of grant funds has occurred prior to that date.

(4) Financial Management Systems

A. Grantee will provide a financial management system in accordance with 7 CFR part 3015, including but not limited to:

(1) Records that identify adequately the source and application of funds for grant-supported activities. Those records shall contain information pertaining to grant awards and authorizations, obligations, unobligated balances, assets, liabilities, outlays, and income;

(2) Effective control over and accountability for all funds, property, and other assets. Grantees shall adequately safeguard all such assets and ensure that they are used solely for authorized purposes;

(3) Accounting records prepared in accordance with generally acceptable accounting principles (GAAP) or with principles that are generally required by commercial agriculture lenders and supported by source documentation; and

(4) Grantee tracking of fund usage and records that show matching funds and grant funds are used in equal proportions. Grantee will provide verifiable documentation regarding matching funds usage, i.e., bank statements or copies of funding obligations from the matching source.

B. Grantee will retain financial records, supporting documents, statistical records, and all other records pertinent to the grant for a period of at least 3 years after completion of grant activities, except that the records shall be retained beyond the 3-year period if audit findings have not been resolved or if directed by the United States. Grantor and the Comptroller General of the United States, or any of their duly authorized representatives, shall have access to any books, documents, papers, and records of Grantee which are pertinent to the grant for the purpose of making audits, examinations, excerpts, and transcripts.

(5) Procurement

Grantee will comply with the applicable procurement requirements of 7 CFR part 3015 regarding standards of conduct, open and free competition, access to contractor records, and equal employment opportunity requirements.

(6) Monitoring and Reporting

A. After grant approval through project completion, the Grantee shall:

1. Constantly monitor performance to ensure that time schedules are being met and projected goals by time periods are being accomplished.

2. Submit semiannual performance reports to Grantor. Each report shall describe current progress and identify any problems, delays, or adverse conditions, if any, which have affected or will affect attainment of overall project objectives or prevent meeting time frame for completion of the feasibility study within two years. This disclosure shall be accompanied by a statement of the action taken or planned to resolve the situation.

B. Following completion of the feasibility study, Grantee shall submit to the Grantor:

1. the project feasibility study and SF-270, “Request for Advance or Reimbursement,” when the feasibility study has been completed; and

2. A final SF-425, “Federal Financial Report,” and a final performance report within 90 days of the completion of the feasibility study. When submitting the final SF-425, Grantee must submit sufficient documentation, including invoices, to allow Grantor to verify that the project was completed within the total sums available to it, including the grant and matching funds, in accordance with the work plan and any necessary modifications thereof prepared by Grantee and approved by Grantor; and

C. Beginning the first full year after the feasibility study has been completed, Grantee shall report to Grantor annually for 2 years on the following:

(1) Is the renewable energy system project for which the feasibility study was conducted underway as a result of the feasibility findings? If `yes,' describe how far along the renewable energy system project is (e.g., financing has been secured, site has been secured, construction contracts are in place, project completed).

(2) If the renewable energy system project is complete, what is the actual amount of energy being produced?

D. Other reports. For clarification purposes, the Grantor may request any additional project and/or performance data for the project for which grant funds have been received.

E. Records access. Grantee shall allow Grantor access to the records and performance information obtained under the scope of the project including those required to be maintained after project completion.

(7) Fund Disbursement

Grant funds will be expended on a pro rata basis with matching funds.

A. Grantee may submit requests for reimbursement monthly or more frequently if authorized to do so by the Agency. Ordinarily, Grantor will make payment within 30 days after receipt of a proper request for reimbursement.

B. Grantee shall not request reimbursement for the Federal share of amounts withheld from contractors to ensure satisfactory completion of work until after it makes those payments.

C. Payment shall be made by electronic funds transfer.

D. A SF-270, “Request for Advance or Reimbursement,” must be completed by Grantee and submitted to the Agency at the completion of the feasibility study.

E. Grantor will disburse grant funds to Grantee in accordance with the above through 90 percent of grant disbursement. Grantor will hold 10 percent of grant funds until Grantee has submitted a feasibility study acceptable to Grantor.

(8) Use of Remaining Grant Funds

Grant funds not expended within 24 months from date of this agreement will be cancelled by the Agency. Prior to the actual cancellation, the Agency will notify, in writing, the Grantee of the Agency's intent to cancel the remaining funds.

In witness whereof, Grantee has this day authorized and caused this Agreement to be signed in its name and its corporate seal to be hereunto affixed and attested by its duly authorized officers thereunto, and Grantor has caused this Agreement to be duly executed in its behalf by:

GRANTEE

Name:

Title:

GRANTOR

Date

United States of America Rural Development

By:

Name:

Title:

Date

[FR Doc. 2010-19335 Filed 8-5-10; 8:45 am]

BILLING CODE 3410-XY-P